EXPORT-IMPORT BANK

[Public Notice: EIB-2023-0004]

Application for Final Commitment for a Long-Term Loan or Financial Guarantee in Excess of $100 Million: AP089479XX

AGENCY: Export-Import Bank of the United States.

ACTION: Notice.

SUMMARY: This Notice is to inform the public the Export-Import Bank of the United States (“EXIM”) has received an application for final commitment for a long-term loan or financial guarantee in excess of $100 million. Comments received within the comment period specified below will be presented to the EXIM Board of Directors prior to final action on this Transaction.

DATES: Comments must be received on or before June 26, 2023 to be assured of consideration before final consideration of the transaction by the Board of Directors of EXIM.

ADDRESSES: Comments may be submitted through Regulations.gov at WWW.REGULATIONS.GOV. To submit a comment, enter EIB-2023-0004 under the heading “Enter Keyword or ID” and select Search. Follow the instructions provided at the Submit a Comment screen. Please include your name, company name (if any) and EIB-2023-0004 on any attached document.

SUPPLEMENTARY INFORMATION:

Reference: AP089479XX.

Purpose and Use:

Brief description of the purpose of the transaction: To support the export of U.S.-manufactured commercial aircraft to Turkiye.

Brief non-proprietary description of the anticipated use of the items being exported: To be used for passenger air transport between various European and surrounding countries.

Parties:

Principal Supplier: The Boeing Company.

Obligor: Gunes Ekspres Havacilik, A.S. (“SunExpress”) Antalya, Turkiye.

Guarantor(s): not applicable.

Description of Items Being Exported: Boeing commercial jet aircraft.

Information on Decision: Information on the final decision for this transaction will be available in the “Summary Minutes of Meetings of Board of Directors” on https://www.exim.gov/news/meeting-minutes.

Confidential Information: Please note that this notice does not include confidential or proprietary business information; information which, if disclosed, would violate the Trade Secrets Act; or information which would jeopardize jobs in the United States by supplying information that competitors could use to compete with companies in the United States.

Authority: Section 3(c)(10) of the Export-Import Bank Act of 1945, as amended (12 U.S.C. 635a(c)(10)).

Joyce B. Stone,
Assistant Corporate Secretary.

[FR Doc. 2023-11706 Filed 5-31-23; 8:45 am]

BILLING CODE 6690-01-P